DEPARTMENT OF THE INTERIOR

Minerals Management Service

Outer Continental Shelf Official Protraction Diagrams

AGENCY: Minerals Management Service, Interior.

ACTION: Availability of revised Outer Continental Shelf Leasing Maps and Official Protraction Diagrams.

SUMMARY: Notice is hereby given that effective with this publication, the NAD 27-based Outer Continental Shelf Leasing Maps and Official Protraction Diagrams last revised on the date indicated, are on file and available for information only, in the Gulf of Mexico OCS Regional Office, New Orleans, Louisiana.

FOR FURTHER INFORMATION CONTACT: Copies of Leasing Maps and Official Protraction Diagrams (OPDs) are $2.00 each. These may be purchased from the Public Information Unit, Information Services Section, Gulf of Mexico OCS Region, Minerals Mangement Service, 1201 Elmwood Park Boulevard, New Orleans, Louisiana 70123-2394, Telephone (504) 736-2519 or (800) 200-GULF.

SUPPLEMENTARY INFORMATION: In accordance with Title 43, Code of Federal Regulations, the following maps and diagrams are the basic record for the description of mineral and oil and gas lease sales in the geographic areas they represent.

Outer Continental Shelf Leasing Maps and Official Protraction Diagrams in the Central Gulf of Mexico Planning Area
| Description | Date
LA1 | West Cameron Area | November 1, 2000.
LA1A | West Cameron Area, West Addition | November 1, 2000.
LA1B | West Cameron Area, South Addition | November 1, 2000.
LA2 | East Cameron Area | November 1, 2000.
LA2A | East Cameron Area, South Addition | November 1, 2000.
LA3 | Vermilion Area | November 1, 2000.
LA3A | South Marsh Island Area | November 1, 2000.
LA3B | Vermilion Area, South Addition | November 1, 2000.
LA3C | South Marsh Island Area, South Addition | November 1, 2000.
LA3D | South Marsh Island Area, North Addition | November 1, 2000.
LA4 | Eugene Island Area | November 1, 2000.
LA4A | Eugene Island Area, South Addition | November 1, 2000.
LA5 | Ship Shoal Area | November 1, 2000.
LA5A | Ship Shoal Area, South Addition | November 1, 2000.
LA6 | South Timbalier Area | November 1, 2000.
LA6A | South Timbalier Area, South Addition | November 1, 2000.
LA6B | South Pelto Area | November 1, 2000.
LA6C | Bay Marchand Area | November 1, 2000.
LA7 | Grand Isle Area | November 1, 2000.
LA7A | Grand Isle Area, South Addition | November 1, 2000.
LA8 | West Delta Area | November 1, 2000.
LA8A | West Delta Area, South Addition | November 1, 2000.
LA9 | South Pass Area | November 1, 2000.
LA9A | South Pass Area, South and East Addition | November 1, 2000.
LA10 | Main Pass Area | November 1, 2000.
LA10A | Main Pass Area, South and East Addition | November 1, 2000.
LA10B | Breton Sound Area | November 1, 2000.
LA11 | Chandeleur Area | November 1, 2000.
LA11A | Chandeleur Area, East Addition | November 1, 2000.
LA12 | Sabine Pass Area | November 1, 2000.
NG15-03 | Green Canyon | November 1, 2000.
NG15-06 | Walker Ridge | November 1, 2000.
NG16-01 | Atwater Valley | November 1, 2000.
NG16-04 | Lund | November 1, 2000.
NG16-07 | Lund South | November 1, 2000.
NH15-12 | Ewing Bank | November 1, 2000.
NH16-04 | Mobile | November 1, 2000.
NH16-07 | Viosca Knoll | November 1, 2000.
NH16-10 | Mississippi Canyon | November 1, 2000.
Note: NG15-09 Amery Terrace was previously revised October 25, 2000.

Outer Continental Shelf Leasing Maps and Official Protraction Diagrams in the Western Gulf of Mexico Planning Area
TX1 | South Padre Island Area | November 1, 2000.
TX1A | South Padre Island Area, East Addition | November 1, 2000.
TX2 | North Padre Island Area | November 1, 2000.
TX2A | North Padre Island Area, East Addition | November 1, 2000.
TX3 | Mustang Island Area | November 1, 2000.
TX3A | Mustang Island Area, East Addition | November 1, 2000.
TX4 | Matagorda Island Area | November 1, 2000.
TX5 | Brazos Area | November 1, 2000.
TX5B | Brazos Area, South Addition | November 1, 2000.
TX6 | Galveston Area | November 1, 2000.
TX6A | Galveston Area, South Addition | November 1, 2000.
TX7 | High Island Area | November 1, 2000.
TX7A | High Island Area, East Addition | November 1, 2000.
TX7B | High Island Area, South Addition | November 1, 2000.
TX7C | High Island Area, East Addition, South Extension | November 1, 2000.
TX8 | Sabine Pass Area | November 1, 2000.
NG14-03 | Corpus Christi | November 1, 2000.
NG14-06 | Port Isabel | November 1, 2000.
NG15-01 | East Breaks | November 1, 2000.
NG15-02 | Garden Banks | November 1, 2000.
NG15-04 | Alaminos Canyon | November 1, 2000.
Note: NG15-05 Keathley Canyon and NG15-08 Sigsbee Escarpment were previously revised November 1, 2000.
Note: In most cases, there are no changes to block boundaries or acreage due to these revisions. However, users are cautioned to check carefully any areas of interest.

A CD-ROM (in ARC/INFO (.gra files) format, and in Acrobat (.pdf files) format) containing all of the Gulf of Mexico Leasing Maps and Official Protraction Diagrams in the Central and Western Gulf Planning Areas is available from the MMS Gulf of Mexico Regional Office Public Information Unit for a price of $15.00. These Leasing Maps and Official Protraction Diagrams are also available on our Internet site, http://www.gomr.mms.gov/homepg/lsesale/mapdiag.html. Also available on the CD-ROM and our Internet site are the Official Protraction Diagrams in the Eastern Gulf Planning Area that are in digital format.

Dated: May 15, 2001.
Carolita U. Kallaur,
Associate Director for Offshore Minerals Management.

[FR Doc. 01-12744 Filed 5-18-01; 8:45 am]

BILLING CODE 4310-MR-U